DEPARTMENT OF HOMELAND SECURITY

Coast Guard

33 CFR Part 100

[Docket No. USCG-2012-1036]

Special Local Regulations; Recurring Marine Events in Captain of the Port Long Island Sound Zone

AGENCY: Coast Guard, DHS.

ACTION: Notice of enforcement of regulation.

SUMMARY: The Coast Guard will enforce one special local regulation for a regatta in the Sector Long Island Sound area of responsibility on October 5, 2014. This action is necessary to provide for the safety of life on navigable waterways during the event. During the enforcement period, no person or vessel may enter the regulated area without permission of the Captain of the Port (COTP) Sector Long Island Sound or designated representative.

DATES: The regulations for the marine event listed in the Table to 33 CFR 100.100(1.4) will be enforced on October 5, 2014 from 5:30 a.m. through 5:30 p.m.

FOR FURTHER INFORMATION CONTACT: If you have questions on this notice, call or email Petty Officer Ian Fallon, Waterways Management Division, U.S. Coast Guard Sector Long Island Sound; telephone 203-468-4565, email Ian.M.Fallon@uscg.mil.

SUPPLEMENTARY INFORMATION: The Coast Guard will enforce the special local regulation listed in 33 CFR 100.100(1.4) on the specified date and times as indicated below. The final rule establishing this special local regulation was published in the Federal Register on May 24, 2013 (78 FR 31402).

1.4 Riverfront Regatta, Hartford, CT | • Event type: Regatta.
| • Date: October 5, 2014. • Time: 5:30 a.m. to 5:30 p.m. • Location: All water of the Connecticut River, Hartford, CT, between the Putnum Bridge 41°42.87′ N 072°38.43′ W and the Riverside Boat House 41°46.42′ N 072°39.83′ W (NAD 83).

Under the provisions of 33 CFR 100.100, the regatta listed above is established as a special local regulation. During the enforcement period, persons and vessels are prohibited from entering into, transiting through, mooring, or anchoring within the regulated area unless they receive permission from the COTP or designated representative.

This notice is issued under authority of 33 CFR 100 and 5 U.S.C. 552(a). In addition to this notice in the Federal Register, the Coast Guard will provide the maritime community with advance notification of this enforcement period via the Local Notice to Mariners or marine information broadcasts. If the COTP determines that the regulated area need not be enforced for the full duration stated in this notice, a Broadcast Notice to Mariners may be used to grant general permission to enter the regulated area.

Dated: July 14, 2014,
E.J. Cubanski, III,
Captain, U.S. Coast Guard, Captain of the Port Sector Long Island Sound.

[FR Doc. 2014-18360 Filed 8-1-14; 8:45 am]

BILLING CODE 9110-04-P